DEPARTMENT OF ENERGY

Federal Energy Regulatory Commission

Combined Notice of Filings

Take notice that the Commission has received the following Natural Gas Pipeline Rate and Refund Report filings:

Filings Instituting Proceedings

Docket Numbers: RP12-348-000

Applicants: Dauphin Island Gathering Partners

Description: Negotiated Rates 2012-01-31 to be effective 2/1/2012.

Filed Date: 1/31/12

Accession Number: 20120131-5081

Comments Due: 5 p.m. ET 2/13/12

Docket Numbers: RP12-349-000

Applicants: Gas Transmission Northwest LLC

Description: Gas Transmission Northwest LLC Medford Lateral Annual Report on Deferred Revenue Recovery Mechanism and Revenue Reconciliation.

Filed Date: 1/31/12

Accession Number: 20120131-5105

Comments Due: 5 p.m. ET 2/13/12

Docket Numbers: RP12-350-000

Applicants: Trailblazer Pipeline Company LLC

Description: MIECO Negotiated Rate to be effective 2/1/2012.

Filed Date: 1/31/12

Accession Number: 20120131-5122

Comments Due: 5 p.m. ET 2/13/12

Docket Numbers: RP12-351-000

Applicants: Kinder Morgan Louisiana Pipeline LLC

Description: Kinder Morgan Louisiana Pipeline LLC Penalty Revenue Crediting Report.

Filed Date: 1/31/12

Accession Number: 20120131-5125

Comments Due: 5 p.m. ET 2/13/12

Docket Numbers: RP12-352-000

Applicants: Trailblazer Pipeline Company LLC

Description: Concord Negotiated Rate to be effective 2/1/2012.

Filed Date: 1/31/12

Accession Number: 20120131-5146

Comments Due: 5 p.m. ET 2/13/12

Docket Numbers: RP12-353-000

Applicants: Gulf South Pipeline Company, LP

Description: HK 37731 to Texla 39522 Capacity Release Negotiated Rate Agreement Filing to be effective 2/1/2012.

Filed Date: 1/31/12

Accession Number: 20120131-5165

Comments Due: 5 p.m. ET 2/13/12

Docket Numbers: RP12-354-000

Applicants: Gulf South Pipeline Company, LP

Description: HK 37731 to Sequent 39523 Capacity Release Negotiated Rate Agreement Filing to be effective 2/1/2012.

Filed Date: 1/31/12

Accession Number: 20120131-5166

Comments Due: 5 p.m. ET 2/13/12

Docket Numbers: RP12-355-000

Applicants: Trailblazer Pipeline Company LLC

Description: United Energy Trading Negotiated Rate to be effective 2/1/2012.

Filed Date: 1/31/12

Accession Number: 20120131-5168

Comments Due: 5 p.m. ET 2/13/12

Docket Numbers: RP12-356-000

Applicants: Trailblazer Pipeline Company LLC

Description: CIMA Negotiated Rate to be effective 2/1/2012.

Filed Date: 1/31/12

Accession Number: 20120131-5171

Comments Due: 5 p.m. ET 2/13/12

Docket Numbers: RP12-357-000

Applicants: Trailblazer Pipeline Company LLC

Description: Macquarie Negotiated Rate to be effective 2/1/2012.

Filed Date: 1/31/12

Accession Number: 20120131-5216

Comments Due: 5 p.m. ET 2/13/12

Docket Numbers: RP12-358-000

Applicants: Trailblazer Pipeline Company LLC

Description: Koch Negotiated Rate to be effective 2/1/2012.

Filed Date: 1/31/12

Accession Number: 20120131-5236

Comments Due: 5 p.m. ET 2/13/12

Docket Numbers: RP12-359-000

Applicants: CenterPoint Energy Gas Transmission Company, LLC

Description: CEGT LLC—February 2012 Negotiated Rate Filing to be effective 2/1/2012.

Filed Date: 1/31/12

Accession Number: 20120131-5312

Comments Due: 5 p.m. ET 2/13/12

Docket Numbers: RP12-360-000

Applicants: ANR Pipeline Company

Description: PFSA Revisions to be effective 3/2/2012.

Filed Date: 1/31/12

Accession Number: 20120131-5324

Comments Due: 5 p.m. ET 2/13/12

Docket Numbers: RP12-361-000

Applicants: Empire Pipeline, Inc.

Description: Reorganized Rate Sheet, New Sec 3.6 to be effective 3/1/2012.

Filed Date: 1/31/12

Accession Number: 20120131-5342

Comments Due: 5 p.m. ET 2/13/12

Docket Numbers: RP12-362-000

Applicants: Northern Natural Gas Company

Description: 20120131 Negotiated Rate to be effective 2/1/2012.

Filed Date: 1/31/12

Accession Number: 20120131-5351

Comments Due: 5 p.m. ET 2/13/12

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: February 1, 2012.
Nathaniel J. Davis, Sr.,
Deputy Secretary.

[FR Doc. 2012-2715 Filed 2-6-12; 8:45 am]

BILLING CODE 6717-01-P